DEPARTMENT OF TRANSPORTATION

Federal Transit Administration

[FTA Docket No. FTA-2016-0023]

Agency Information Collection Activity Under OMB Review

AGENCY: Federal Transit Administration, DOT.

ACTION: Notice of request for comments.

SUMMARY: In compliance with the Paperwork Reduction Act of 1995 (44 U.S.C. 3501 et seq.), this notice announces that the Information Collection Requirements (ICRs) abstracted below have been forwarded to the Office of Management and Budget (OMB) for review and comment. The ICRs describes the nature of the information collection and the expected burdens.

Public Transportation Emergency Relief Program

The Moving Ahead for Progress in the 21st Century Act (MAP-21, Pub. L. 112-141) authorized the Emergency Relief Program at 49 U.S.C. 5324. FTA's Emergency Relief program enables FTA to provide assistance to public transit operators in the aftermath of an emergency or major disaster. This program helps States and public transportation systems pay for protecting, repairing, and/or replacing equipment and facilities that may suffer or have suffered serious damage as a result of an emergency, including natural disasters such as floods, hurricanes, and tornadoes. The program can fund capital projects to protect, repair, or replace facilities or equipment that are in danger of suffering serious damage, or have suffered serious damage as a result of an emergency. The program can also fund the operating costs of evacuation, rescue operations, temporary public transportation service, or reestablishing, expanding, or relocating service before, during or after an emergency.

The Federal Register notice with a 60-day comment period soliciting comments for the Public Transportation Emergency Relief Program was published on April 5, 2016 (Citation 81 FR 19711). No comments were received from that notice.

DATES: Comments must be submitted before September 1, 2016. A comment to OMB is most effective, if OMB receives it within 30 days of publication.

FOR FURTHER INFORMATION CONTACT: Tia Swain, Office of Administration, Office of Management Planning, (202) 366-0354.

SUPPLEMENTARY INFORMATION:

Title: Public Transportation Emergency Relief Program (OMB Number: 2132-0575).

Abstract: As a result of Hurricane Sandy, President Obama declared a major disaster in late 2012 for areas of 12 States and the District of Columbia affected by Hurricane Sandy. Public transportation agencies in the counties specified in the disaster declaration were eligible for financial assistance under FTA's Public Transportation Emergency Relief Program. Under the Disaster Relief Appropriations Act (Pub. L. 113-2), Congress provided $10.9 billion for FTA's Emergency Relief Program for recovery, relief and resilience efforts in areas affected by Hurricane Sandy. Approximately $10.2 billion remained available after implementation of the Balanced Budget and Emergency Deficit Control Act of 2011 (Pub. L. 112-25) and after intergovernmental transfers to other bureaus and offices within DOT. FTA allocated approximately $9.27 billion in multiple tiers for response, recovery and rebuilding, for locally prioritized resilience projects, and for competitively selected resilience projects. In addition, FTA has reserved approximately $817 million for remaining unfunded recovery expenses.

Estimated Total Burden: 3,600 hours.

ADDRESSES: All written comments must refer to the docket number that appears at the top of this document and be submitted to the Office of Information and Regulatory Affairs, Office of Management and Budget, 725 17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

William Hyre,
Deputy Associate Administrator for Administration.

[FR Doc. 2016-18225 Filed 8-1-16; 8:45 am]

BILLING CODE P